DEPARTMENT OF ENERGY

Federal Energy Regulatory Commission

Notice of Attendance at ISO New England and NEPOOL Meetings

The Federal Energy Regulatory Commission (Commission) hereby gives notice that members of the Commission and Commission staff may attend upcoming ISO New England Inc. (ISO-NE) and New England Power Pool (NEPOOL) meetings, as well as other subcommittee or working group meetings.¹ The Commission and Commission staff may attend the following meetings:

¹ Subcommittees, task forces, and working groups meet on a variety of topics; they convene and dissolve on an as-needed basis. Therefore, the Commission and Commission staff may monitor the various meetings posted on the ISO-NE Web site.

NEPOOL Participants Committee

• March 9, 2012 (Location TBD)

• April 13, 2012 (Location TBD)

• May 4, 2012 (Location TBD)

• June 1, 2012 (Location TBD)

• June 26-28, 2012 (Newport, RI)

• August 3, 2012 (Location TBD)

• September 14, 2012 (Location TBD)

• October 12, 2012 (Location TBD)

• November 2, 2012 (Location TBD)

• December 7, 2012 (Location TBD)

NEPOOL Markets Committee

• March 6-7, 2012 (Westborough, MA)

• April 10-11, 2012 (Westborough, MA)

• May 9-10, 2012 (Westborough, MA)

• June 12-13, 2012 (Milford, MA)

• July 11-13, 2012 (Location TBD)

• August 7-8, 2012 (Westborough, MA)

• September 11-12, 2012 (Westborough, MA)

• October 10-11, 2012 (Westborough, MA)

• November 7-8, 2012 (Marlborough, MA)

• December 11-12, 2012 (Westborough, MA)

NEPOOL Transmission Committee

• February 28, 2012 (Westborough, MA)

• March 20, 2012 (Westborough, MA)

• April 24, 2012 (Westborough, MA)

• May 24, 2012 (Westborough, MA)

• June 21, 2012 (Westborough, MA)

• July 24, 2012 (Westborough, MA)

• August 13-15, 2012 (Location TBD)

• September 25, 2012 (Marlborough, MA)

• October 23, 2012 (Westborough, MA)

• November 29, 2012 (Westborough, MA)

NEPOOL Reliability Committee

• March 13, 2012 (Westborough, MA)

• April 17, 2012 (Westborough, MA)

• May 15, 2012 (Westborough, MA)

• June 20, 2012 (Westborough, MA)

• July 17, 2012 (Westborough, MA)

• August 13-15, 2012 (Location TBD)

• September 19, 2012 (Westborough, MA)

• October 16, 2012 (Westborough, MA)

• November 13, 2012 (Westborough, MA)

• December 18, 2012 (Westborough, MA)

Planning Advisory Committee

• March 14, 2012 (Milford, MA)

• March 15, 2012 (Framingham, MA)

• April 18-19, 2012 (Westborough, MA)

• May 16-17, 2012 (Westborough, MA)

• June 18-19, 2012 (Westborough, MA)

• July 18-19, 2012 (Westborough, MA)

• August 9, 2012 (Westborough, MA)

• September 20, 2012 (Westborough, MA)

• October 17-18, 2012 (Westborough, MA)

• November 14-15, 2012 (Marlborough, MA)

• December 13, 2012 (Westborough, MA)

Demand Resources Working Group

• March 8, 2012 (Holyoke, MA)

• April 4, 2012 (Holyoke, MA)

• May 2, 2012 (Holyoke, MA)

• June 6, 2012 (Holyoke, MA)

• August 1, 2012 (Holyoke, MA)

• September 5, 2012 (Holyoke, MA)

• October 3, 2012 (Holyoke, MA)

• November 7, 2012 (Holyoke, MA)

• December 5, 2012 (Holyoke, MA)

Budget & Finance Subcommittee

• March 28, 2012 (Conference Call)

• April 12, 2012 (Conference Call)

• May 14, 2012 (Conference Call)

• August 13, 2012 (Conference Call)

• August 24, 2012 (Conference Call)

• October 25, 2012 (Conference Call)

• November 19, 2012 (Conference Call)

For additional information, see:

http://www.iso-ne.com/committees/

comm_wkgrps/index.html.

The discussions at each of the meetings described above may address matters at issue in pending proceedings before the Commission, including the following currently pending proceedings:

Docket Nos. ER10-787, EL10-50, and EL10-57, ISO New England Inc. and the New England Power Pool Participants Committee.

Docket No. ER11-2216, ISO New England Inc. and the Participating Transmission Owners Administrative Committee.

Docket No. ER11-2580, ISO New England Inc.

Docket No. ER11-3953, ISO New England Inc. and the New England Power Pool Participants Committee.

Docket No. ER11-4336, ISO New England Inc.

Docket No. ER12-729, ISO New England Inc. and the New England Power Pool Participants Committee.

Docket No. ER12-757, ISO New England Inc.

Docket No. ER12-953, ISO New England Inc. and the New England Power Pool Participants Committee.

Docket No. ER12-991, ISO New England Inc.

For more information, contact Kristen Fleet, Office of Energy Market Regulation, Federal Energy Regulatory Commission at (202) 502-8063 or Kristen.Fleet@ferc.gov.

Dated: February 16, 2012.
Kimberly D. Bose,
Secretary.

[FR Doc. 2012-4409 Filed 2-24-12; 8:45 am]

BILLING CODE 6717-01-P